FEDERAL TRADE COMMISSION

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted July 1, 2019 Thru July 31, 2019
07/01/2019
20191450 | G | DC Capital Partners Fund II, L.P.; Pond Holdings, Inc.; DC Capital Partners Fund II, L.P.
20191539 | G | Solaris Midstream Holdings, LLC; Concho Resources Inc.; Solaris Midstream Holdings, LLC.
20191546 | G | Nordic Capital IX Beta, L.P.; Deepak Abbhi; Nordic Capital IX Beta, L.P.
07/03/2019
20191554 | G | James M. Moran Intervivos Trust Number Two; Trilantic Capital Partners V (North America) L.P.; James M. Moran Intervivos Trust Number Two.
07/05/2019
20191538 | G | Anthem, Inc.; BVO Holdings, LLC; Anthem, Inc.
07/08/2019
20191557 | G | Eastdil Secured Holdings LLC; Wells Fargo & Company; Eastdil Secured Holdings LLC.
20191562 | G | Vera Bradley, Inc.; Paul Goodman; Vera Bradley, Inc.
20191567 | G | THL Equity Fund VIII Investors (Automate), L.P.; EQT VII (No. 1) LP; THL Equity Fund VIII Investors (Automate), L.P.
20191571 | G | Mondelez International, Inc.; New Perfect Bar Corporation; Mondelez International, Inc.
20191576 | G | Rond Point Immobilier SAS; Medidata Solutions, Inc.; Rond Point Immobilier SAS.
20191577 | G | Appointive Distributing Trust A c/u Samuel C. Johnson 1988; Sun Bum Holdings, LLC; Appointive Distributing Trust A c/u Samuel C. Johnson 1988.
20191586 | G | PPC Fund II LP; Wind Point Partners VIII-A, L.P.; PPC Fund II LP.
20191587 | G | Anna Reilly; Lamar Advertising Company; Anna Reilly.
20191590 | G | New Enterprise Associates 16, L.P.; Banjo, Inc.; New Enterprise Associates 16, L.P.
20191607 | G | Mitsubishi Corporation; Chiyoda Corporation; Mitsubishi Corporation.
07/10/2019
20191534 | G | Intel Corporation; Barefoot Networks, Inc.; Intel Corporation.
20191579 | G | Aurora Equity Partners V L.P.; SGS SA; Aurora Equity Partners V L.P.
20191588 | G | TPG Pace Holdings Corp.; Accel Entertainment, Inc.; TPG Pace Holdings Corp.
20191595 | G | Partners Group Access 1098, L.P.; Blue River PetCare, L.L.C.; Partners Group Access 1098, L.P.
20191596 | G | dormakaba Holding AG; James Bret Armatas; dormakaba Holding AG.
20191597 | G | Mr. Patrick Drahi; Sotheby's; Mr. Patrick Drahi.
20191600 | G | Ashford Inc.; Archie Bennett, Jr.; Ashford Inc.
20191601 | G | Ashford Inc.; Monty J. Bennett; Ashford Inc.
20191602 | G | Monty J. Bennett; Ashford Inc.; Monty J. Bennett.
20191603 | G | Archie Bennett, Jr.; Ashford Inc.; Archie Bennett, Jr.
20191611 | G | Trian Partners Co-Investment Opportunities Fund, LLC; Ferguson plc; Trian Partners Co-Investment Opportunities Fund, LLC.
07/11/2019
20191517 | G | NXP Semiconductors N.V.; Marvell Technology Group Ltd.; NXP Semiconductors N.V.
20191572 | G | Zoonie, LLC; Summit Medical Group, P.A.; Zoonie, LLC.
20191573 | G | WP CityMD Topco LLC; Summit Medical Group, P.A.; WP CityMD Topco LLC.
20191574 | G | WP CityMD Topco LLC; Zoonie, LLC; WP CityMD Topco LLC.
07/12/2019
20191614 | G | Sharon Credit Union; Crescent Credit Union; Sharon Credit Union.
20191619 | G | New Residential Investment Corp.; Ditech Holding Corporation; New Residential Investment Corp.
20191620 | G | Ruby Topco LLC; Kaman Corporation; Ruby Topco LLC.
20191621 | G | Archrock, Inc.; Jeffery D. Hildebrand; Archrock, Inc.
20191623 | G | Lovell Minnick Equity Partners V LP; New Omaha Holdings, L.P.; Lovell Minnick Equity Partners V LP.
20191625 | G | Jeffery D. Hildebrand; Archrock, Inc.; Jeffery D. Hildebrand.
20191629 | G | Basilisk Holdings, Inc; Carswell Family Irrevocable Trust; Basilisk Holdings, Inc.
20191631 | G | First Financial Bancorp.; Bannockburn Global Forex, LLC; First Financial Bancorp.
20191633 | G | Canyon State Credit Union; Deer Valley Credit Union; Canyon State Credit Union.
20191634 | G | 2003 TIL Settlement; Capital Confirmation, Inc.; 2003 TIL Settlement.
20191635 | G | Nidec Corporation; Omron Corporation; Nidec Corporation.
07/15/2019
20191632 | G | AIF IX (PMC Equity AIV), L.P.; Cox Family Voting Trust u/a/d 7/26/13; AIF IX (PMC Equity AIV), L.P.
20191641 | G | Cox Family Voting Trust u/a/d 7/26/13; AIF IX (PMC Equity AIV), L.P.; Cox Family Voting Trust u/a/d 7/26/13.
20191645 | G | EQT VII (No. 1) Limited Partnership; Acumatica International, Ltd.; EQT VII (No. 1) Limited Partnership.
20191647 | G | Aurora Equity Partners V L.P.; Lawrence Gordon; Aurora Equity Partners V L.P.
20191649 | G | US Ecology, Inc.; JFL AIV Investors III-JA, L.P.; U.S. Ecology, Inc.
07/16/2019
20191563 | G | The Veritas Capital Fund V, L.P.; David H. Kellogg & Twila B. Kellogg; The Veritas Capital Fund V, L.P.
20191643 | G | Extreme Networks, Inc.; Aerohive Networks, Inc.; Extreme Networks, Inc.
20191651 | G | JFL AIV Investors III-JA, L.P.; US Ecology, Inc.; JFL AIV Investors III-JA, L.P.
20191653 | G | Reyes Holdings, L.L.C.; David B. Ingram and Sarah L. Ingram; Reyes Holdings, L.L.C.
07/17/2019
20190772 | G | New Omaha Holdings L.P.; Fiserv, Inc.; New Omaha Holdings L.P.
20190773 | G | Fiserv Inc.; New Omaha Holdings L.P.; Fiserv Inc.
20191344 | G | The Greenbrier Companies, Inc.; ITE Rail Fund L.P.; The Greenbrier Companies, Inc.
20191561 | G | AP IX Sherwood Holdings, L.P.; Shutterfly, Inc.; AP IX Sherwood Holdings, L.P.
20191648 | G | Arsenal Capital Partners V LP; Dhu C. and Mary Ellen Thompson; Arsenal Capital Partners V LP.
07/18/2019
20191598 | G | Keane Group, Inc.; C&J Energy Services, Inc.; Keane Group, Inc.
20191612 | G | BDT Sunrise Holdings LLC; Tres Aguilas Enterprises LLC; BDT Sunrise Holdings LLC.
20191622 | G | Frontier Cooperative Company; Midwest Farmers Cooperative; Frontier Cooperative Company.
20191642 | G | Quad-C Partners IX, L.P.; The Resolute Fund III, L.P.; Quad-C Partners IX, L.P.
07/19/2019
20191650 | G | Elliott International Limited; Insight Venture Partners VIII, L.P.; Elliott International Limited.
20191652 | G | Tenex Capital Partners II, L.P.; Big Bolt Corporation; Tenex Capital Partners II, L.P.
20191656 | G | KENE Holdings, L.P.; General Atlantic Partners AIV-1 B, L.P.; KENE Holdings, L.P.
20191657 | G | NexPhase Capital Fund III, L.P.; New Harbor Capital Fund, LP; NexPhase Capital Fund III, L.P.
20191658 | G | Nippon Telegraph & Telephone Corporation; Great Hill Equity Partners IV, LP; Nippon Telegraph & Telephone Corporation.
20191670 | G | AMETEK, Inc.; Pacific Design Technologies, LLC; AMETEK, Inc.
20191675 | G | Harry B. Matthews, Jr., Revocable Trust; SCR-Sibelco N.V.; Harry B. Matthews, Jr., Revocable Trust.
20191679 | G | Giant Network Group Co., Ltd.; Seriously Holding Corp.; Giant Network Group Co., Ltd.
07/23/2019
20191460 | G | Marvell Technology Group Ltd.; Mubadala Investment Company PJSC; Marvell Technology Group Ltd.
20191585 | G | Century Casinos, Inc.; Eldorado Resorts, Inc.; Century Casinos, Inc.
07/26/2019
20191682 | G | Stanley C. Middleman; Joseph C. Lewis; Stanley C. Middleman.
20191685 | G | Insight Enterprises, Inc.; PCM, Inc.; Insight Enterprises, Inc.
20191686 | G | Sekisui Chemical Co., Ltd.; AIM Aerospace Holdings, LLC; Sekisui Chemical Co., Ltd.
20191694 | G | UGI Corporation; TC Energy Corporation; UGI Corporation.
20191695 | G | General Atlantic Partners AIV-1 B, L.P.; Elevate Brandpartners, L.P.; General Atlantic Partners AIV-1 B, L.P.
20191696 | G | FS Investment Corporation II; FS Investment Corporation III; FS Investment Corporation II.
20191697 | G | FS Investment Corporation II; FS Investment Corporation IV; FS Investment Corporation II.
20191698 | G | FS Investment Corporation II; Corporate Capital Trust II; FS Investment Corporation II.
20191701 | G | Albert H. Nahmad; Brian G. Peirce; Albert H. Nahmad.
20191702 | G | ABRY Partners IX, L.P.; KAMC Holdings, Inc.; ABRY Partners IX, L.P.
20191703 | G | Permira VI L.P. 1; Yael Aflalo; Permira VI L.P. 1.
07/29/2019
20191661 | G | CCP III AIV IV, L.P.; Catalyst Institute, Inc.; CCP III AIV IV, L.P.
20191665 | G | HealthEquity, Inc.; WageWorks, Inc.; HealthEquity, Inc.
20191690 | G | DeOro Foods LLC; JHT Family 2009 Trust; DeOro Foods LLC.
20191691 | G | Nexus Special Situations II, L.P.; FTD Companies, Inc.; Nexus Special Situations II, L.P.
20191700 | G | TCV X L.P.; Amalco; TCV X L.P.
20191712 | G | Lindsay Goldberg IV L.P.; Creation Technologies Inc.; Lindsay Goldberg IV L.P.
07/30/2019
20190482 | S | Amas Holding SPF; Quaker Chemical Corporation; Amas Holding SPF.
07/31/2019
20191424 | G | DC Front Range Holdings I, LP; Zayo Group Holdings, Inc.; DC Front Range Holdings I, LP.
20191425 | G | EQT Infrastructure IV (B) SCSp; Zayo Group Holdings, Inc.; EQT Infrastructure IV (B) SCSp.
20191529 | G | Infineon Technologies AG; Cypress Semiconductor Corporation; Infineon Technologies AG.
20191616 | G | Linden Capital Partners IV-A LP; CMI Holdings L.P.; Linden Capital Partners IV-A LP.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-19014 Filed 9-3-19; 8:45 am]

BILLING CODE 6750-01-P